DEPARTMENT OF DEFENSE

Department of the Army

Intent To Grant an Exclusive Field of Use License of a U.S. Government-Owned Patent Application

AGENCY: Department of the Army, DoD.

ACTION: Notice.

SUMMARY: In accordance with 35 U.S.C. 209(e), and 37 CFR 404.7 (a)(1)(i), announcement is made of the intent to grant an exclusive, revocable license for the field of use in the research reagent market to the invention described in U.S. Patent Application No. 61/252,675 entitled “Enhanced Substrates for The Protease Activity of Serotype A Botulinum Neurotoxin,” filed October 18, 2009, to List Biological Laboratories, with its principal place of business at 540 Division Street, Campbell, California 95008-6906.

ADDRESSES: Commander, U.S. Army Medical Research and Materiel Command, ATTN: Command Judge Advocate, MCMR-JA, 504 Scott Street, Fort Detrick, Frederick, MD 21702-5012.

FOR FURTHER INFORMATION CONTACT: For licensing issues, Dr. Paul Mele, Office of Research and Technology Applications (ORTA), (301) 619-6664. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2010-22175 Filed 9-3-10; 8:45 am]

BILLING CODE 3710-08-P